DEPARTMENT OF TRANSPORTATION

Federal Railroad Administration

[Docket Number FRA-2007-28454]

Petition for Expansion of Waiver of Compliance

Under part 211 of title 49 Code of Federal Regulations (CFR), this document provides the public notice that on January 29, 2022, Union Pacific Railroad Company (UPRR) petitioned the Federal Railroad Administration (FRA) for an expansion of a waiver of compliance from certain provisions of the Federal railroad safety regulations contained at 49 CFR part 232 (Brake System Safety Standards for Freight and Other Non-Passenger Trains and Equipment; End-Of-Train Devices). The relevant FRA Docket Number is FRA-2007-28454.

UPRR's existing waiver in this docket provides conditional relief from the requirements for performing the single car air brake test (SCABT) as prescribed in 49 CFR 232.305(b)(2), Single car air brake tests. The relief allows UPRR to replace non-FRA condemnable wheelsets on railcars as part of an in-train wheelset replacement program at North Platte, Nebraska, and Roseville, California, without the need to also perform the SCABT as required, if the car has not received a SCABT within the previous 12 months.

In this petition, UPRR requests to expand the scope of relief for in-train wheel replacement beyond the two current facilities to also include the South Morrill, Nebraska, facility. UPRR states that the original waiver and subsequent extensions have had no adverse effect on safety, and that UPRR has operated under the guidelines set forth in the waiver.

A copy of the petition, as well as any written communications concerning the petition, is available for review online at www.regulations.gov.

Interested parties are invited to participate in these proceedings by submitting written views, data, or comments. FRA does not anticipate scheduling a public hearing in connection with these proceedings since the facts do not appear to warrant a hearing. If any interested parties desire an opportunity for oral comment and a public hearing, they should notify FRA, in writing, before the end of the comment period and specify the basis for their request.

All communications concerning these proceedings should identify the appropriate docket number and may be submitted at www.regulations.gov. Follow the online instructions for submitting comments.

Communications received by April 4, 2022 will be considered by FRA before final action is taken. Comments received after that date will be considered if practicable.

Anyone can search the electronic form of any written communications and comments received into any of our dockets by the name of the individual submitting the comment (or signing the document, if submitted on behalf of an association, business, labor union, etc.). Under 5 U.S.C. 553(c), the U.S. Department of Transportation (DOT) solicits comments from the public to better inform its processes. DOT posts these comments, without edit, including any personal information the commenter provides, to www.regulations.gov, as described in the system of records notice (DOT/ALL-14 FDMS), which can be reviewed at https://www.transportation.gov/privacy. See also https://www.regulations.gov/privacy-notice for the privacy notice of regulations.gov.

Issued in Washington, DC.
John Karl Alexy,
Associate Administrator for Railroad Safety Chief Safety Officer.

[FR Doc. 2022-03288 Filed 2-15-22; 8:45 am]

BILLING CODE 4910-06-P